DEPARTMENT OF COMMERCE

National Oceanic and Atmospheric Administration

[I.D. 042304B]

Endangered and Threatened Species; Take of Anadromous Fish

AGENCY: National Marine Fisheries Service (NMFS), National Oceanic and Atmospheric Administration (NOAA), Commerce.

ACTION: Notice of availability and request for comment.

SUMMARY: Notice is hereby given that NMFS has received an application for incidental take permit 1481 (Permit) from the Idaho Department of Fish and Game (IDFG) pursuant to the Endangered Species Act of 1973, as amended (ESA). As required by the ESA, IDFG's application includes a conservation plan (Plan) designed to minimize and mitigate any such take of endangered or threatened species. The Permit application is for the incidental take of ESA-listed adult and juvenile salmonids associated with otherwise lawful recreational fisheries on non-listed species in the Snake River and its tributaries in the State of Idaho. NMFS also announces the availability of a draft Environmental Assessment (EA) for the Permit modification application under the National Environmental Policy Act (NEPA). This document serves to notify the public of the availability for comment of the permit modification application and the associated draft EA before a final decision on whether to issue a Finding of No Significant Impact is made by NMFS. All comments received will become part of the public record and will be available for review pursuant to section 10(c) of the ESA.

DATES: Written comments on the draft EA must be received no later than 5 p.m. Pacific daylight time on May 27, 2004.

ADDRESSES: Written comments and requests for copies of the draft EA should be addressed to Herb Pollard, Salmon Recovery Division, 10215 W. Emerald, Suite 180, Boise, ID 83704, or faxed to (208) 378-5699. Comments on this draft EA may be submitted by e-mail. The mailbox address for providing e-mail comments is Permit1481.nwr@noaa.gov. Include in the subject line the following document identifier: “Permit 1481 assessment”. The documents will also be available on the Internet at www.nwr.noaa.gov. Comments may also be submitted electronically through the Federal e-Rulemaking portal: www.regulations.gov. Comments received will also be available for public inspection, by appointment, during normal business hours by calling (208) 378-5614.

FOR FURTHER INFORMATION CONTACT: Herb Pollard, Boise, ID, at phone number (208) 378-5614 or e-mail: herbert.pollard@noaa.gov.

SUPPLEMENTARY INFORMATION: This notice is relevant to the Snake River spring/summer chinook salmon (Oncorhynchus tshawytscha), Snake River fall-run chinook salmon (O. tshawytscha), Snake River sockeye salmon (O. nerka), and Snake River steelhead (O. mykiss) ESUs. The proposed permit will renew and replace permit 1233 which will expire on December 31, 2004. The duration of the proposed Permit and Plan is 5 years, expiring on May 31, 2008.

Background

On May 26, 2000, NMFS issued permit 1233 to the State of Idaho to conduct recreational fisheries managed by IDFG during 2000 through 2004 on non-listed species in the Snake River and its tributaries in the State of Idaho. Permit 1233 authorizes IDFG an incidental take of adult and juvenile, threatened, naturally produced Snake River spring/summer chinook salmon (Oncorhynchus tshawytscha), adult and juvenile, threatened, naturally produced Snake River fall chinook salmon (O. tshawytscha), and adult and juvenile, threatened, naturally produced Snake River sockeye salmon (O. nerka) in recreational fisheries managed by the State of Idaho.

IDFG requests a new permit to modify timing of currently authorized fisheries, to expand currently authorized fishing areas, and to apply an abundance-based sliding scale to incidental take limits for the fisheries. The fishery area in the Salmon River would be increased from the current boundaries of the mouth of Hammer Creek 30 miles (48.2803 km) upstream to the mouth of the Little Salmon River, to include the area from the mouth of the Salmon River upstream approximately 120 miles (193.121 km) to the mouth of the South Fork Salmon River. IDFG also requests that a sliding scale of harvest impacts, based on the combined return of listed spring and summer run chinook salmon counted at Lower Granite Dam be applied to the allowable incidental take of adult, threatened, Snake River spring/summer chinook salmon associated with the authorized fisheries. The proposed permit is the fourth in a series of permits (Permit 844, 1993-1998; Permit 1150, 1999; and Permit 1233, 2000-2004 preceded this application) which have provided ESA authorization for recreational fishing activities that may incidentally take listed Snake River salmon and steelhead.

In its Plan, IDFG is proposing to limit state recreational fisheries such that the incidental impacts on ESA-listed salmonids will be minimized. Three alternatives for the IDFG fisheries are provided in the Plan: (1) The no action alternative; (2) the proposed conservation plan alternative (based on continuing fisheries at levels similar to those permitted since 1995); and (3) historical fishing levels.

Environmental Assessment/Finding of No Significant Impact

The EA package includes a draft EA evaluating whether the potential effects of issuing the new incidental take permit to replace the existing permit and whether such issuance is a major Federal action significantly affecting the quality of the human environment, within the meaning of section 102(2)(C) of the National Environmental Policy Act (NEPA) of 1969, as amended. Three Federal action alternatives have been analyzed in the draft EA: (1) The no action alternative; (2) issue a permit with conditions; and (3) issue a permit without conditions. NEPA requires Federal agencies to conduct an environmental analysis of their proposed actions to determine if the actions may affect the human environment. NMFS expects to take action on the ESA section 10(a)(1)(B) submittal received from the applicant. Therefore, NMFS is seeking public input on the scope of the required NEPA analysis, including the range of reasonable alternatives and associated impacts of any alternatives.

This notice is provided pursuant to section 10(c) of the ESA and the NEPA regulations (40 CFR 1506.6). NMFS will evaluate the application, associated documents, and comments submitted thereon to determine whether the application meets the requirements of the NEPA regulations and section 10(a) of the ESA. If it is determined that the requirements are met, a permit will be issued for incidental takes of ESA-listed anadromous salmonids under the jurisdiction of NMFS. The final NEPA and permit determinations will not be completed until after the end of the 15-day comment period and will fully consider all public comments received during the comment period. NMFS will publish a record of its final action in the Federal Register.

Dated: May 7, 2004.
Phil Williams,
Chief, Endangered Species Division, Office of Protected Resources, National Marine Fisheries Service.

[FR Doc. 04-10787 Filed 5-11-04; 8:45 am]

BILLING CODE 3510-22-S